DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed revision of the “International Price Program—U.S. Export Price Indexes.” A copy of the proposed information collection request (ICR) can be obtained by contacting the individual listed below in the ADDRESSES section of this notice.

DATES: Written comments must be submitted to the office listed in the ADDRESSES section of this notice on or before August 14, 2006.

ADDRESSES: Send comments to Amy A. Hobby, BLS Clearance Officer, Division of Management Systems, Bureau of Labor Statistics, Room 4080, 2 Massachusetts Avenue, NE., Washington, DC 20212, telephone number 202-691-7628. (This is not a toll free number.)

FOR FURTHER INFORMATION CONTACT: Amy A. Hobby, BLS Clearance Officer, telephone number 202-691-7628. (See ADDRESSES section.)

SUPPLEMENTARY INFORMATION:

I. Background

The U.S. Export Price Indexes, produced continuously by the Bureau of Labor Statistics' International Price Program (IPP) since 1971, measure price change over time for all categories of exported products, as well as many services. The Office of Management and Budget has listed the Export Price Indexes as a Principal Federal Economic Indicator since 1982. The indexes are widely used in both the public and private sectors. The primary public sector use is the deflation of the U.S. Trade Statistics and the Gross Domestic Product; the indexes also are used in formulating U.S. trade policy and in trade negotiations with other countries. In the private sector, uses of the Export Price Indexes include market analysis, inflation forecasting, contract escalation, and replacement cost accounting.

The IPP indexes are closely followed statistics and are viewed as a sensitive indicator of the economic environment. The U.S. Department of Commerce uses the monthly statistics to produce monthly and quarterly estimates of inflation-adjusted trade flows. Without continuation of data collection, it would be extremely difficult to construct accurate estimates of the U.S. Gross Domestic Product. In addition, Federal policymakers in the Department of Treasury, the Council of Economic Advisers, and the Federal Reserve Board utilize these statistics on a regular basis to improve these agencies' formulation and evaluation of monetary and fiscal policy and evaluation of the general business environment.

II. Current Action

The IPP continues to modernize data collection and processing to permit more timely release of its indexes, and to reduce reporter burden. Recently, the IPP implemented changes to reduce burden on those reporters that are major traders and account for a significant portion of trade. Field economists are provided with more accurate information about the potential overlap between establishments that are both in the IPP and the Producer Price Index in order to better coordinate visits to establishments when obtaining new items for repricing. The IPP also implemented an enhanced refinement process that provides Industry Analysts the ability to reduce the burden for a respondent when necessary and modified the second stage selection algorithm to lower the percentage of infrequently traded areas that are sampled, because they are more likely to be out-of-scope for the IPP. These improvements should reduce the overall burden on respondents and improve the IPP's overall response rate at initiation. In addition, in 2003 the IPP introduced a web application for monthly data collection. This tool allows respondents to directly update their data online via the internet. Web collection has expanded rapidly since the IPP began soliciting respondents and as of April 2006, the Program had solicited 70 percent of all respondents, with a goal of 75 percent by September 2006, and 95 percent by September 2007. Through April 2006, nearly 40 percent of the IPP respondents are actually utilizing web collection while the majority of respondents still use the mailout/faxback process. In addition, email repricing has the possibility of expanding and over time these various electronic data collection methods for repricing will continue to allow the IPP to collect and publish monthly data in a timely manner.

III. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Type of Review: Revision.

Agency: Bureau of Labor Statistics.

Title: International Price Program/U.S. Export Price Indexes.

OMB Number: 1220-0025.

Affected Public: Business or other for-profit.

Form | Total respondents | Frequency | Total responses | Average time per response (hours) | Estimated total burden (hours)
Initiation Visit (includes form 3008) | 1,400 | Annually | 1,400 | 1.0 | 1,400
Form 3007D | 2,700 | Monthly | 17,010 | .6156 | 10,471
Totals | 4,100 |  | 18,410 |  | 11,871

Total Burden Cost (capital/startup): $0.

Total Burden Cost (operating/maintenance): $0.

Comments submitted in response to this notice will be summarized and/or included in the request for Office of Management and Budget approval of the information collection request; they also will become a matter of public record.

Signed at Washington, DC, this 6th day of June, 2006.
Catherine Kazanowski,
Chief, Division of Management Systems, Bureau of Labor Statistics.

[FR Doc. E6-9257 Filed 6-13-06; 8:45 am]

BILLING CODE 4510-24-P